DEPARTMENT OF ENERGY

Federal Energy Regulatory Commission

[Docket No. ER16-1518-000]

Supplemental Notice of Agenda and Discussion Topics for Staff Technical Conference; California Independent System Operator Corporation

This notice establishes the agenda and topics for discussion at the technical conference to be held on October 28, 2016 to discuss the technical challenges California Independent System Operator Corporation (CAISO) has described related to the implementation of economic bidding at Energy Imbalance Market (EIM) external interties.¹ The conference will be held on October 28, 2016, at the Commission's offices at 888 First Street NE., Washington, DC 20426 from 10 a.m. to approximately 4 p.m. (Eastern Time). The conference will be led by Commission staff and Commissioners might attend.

¹ See Cal. Indep. Sys. Operator Corp., 155 FERC ¶ 61,329, at P 38 (2016) (June 30 Order).

The purpose of the technical conference is to provide Commission staff and interested parties an opportunity to discuss impediments to and solutions for implementing economic bidding at the EIM external interties. The topics to be discussed during this conference are attached.

This conference will be transcribed. Transcripts will be available for a fee from Ace Reporting Company (202-347-3700). Advance registration is not required but is encouraged. Attendees may register, indicating attendance in person or via listen-only telephone line, at the following Web page: https://www.ferc.gov/whats-new/registration/10-28-16-form.asp. If you require a telephone line, please register no later than October 24, 2016 to be emailed the call-in information one day before the conference. Information on this event will be posted on the Calendar of Events on the Commission's Web site, www.ferc.gov, prior to the event.

Commission conferences are accessible under section 508 of the Rehabilitation Act of 1973. For accessibility accommodations, please send an email to accessibility@ferc.gov or call toll free 1-866-208-3372 (voice) or 202-502-8659 (TTY), or send a FAX to 202-208-2106 with the required accommodations.

For more information about this conference, please contact:

Sarah McKinley, Office of External Affairs,(202) 502-8368, sarah.mckinley@ferc.gov, Federal Energy Regulatory Commission, 888 First Street NE., Washington, DC 20426.

Linda Kizuka Office of the General Counsel, 202-502-8773, linda.kizuka@ferc.gov, Federal Energy Regulatory Commission, 888 First Street NE., Washington, DC 20426.

Jennifer Shipley, Office of Energy Market Regulation, (202) 502-6822, jennifer.shipley@ferc.gov, Federal Energy Regulatory Commission, 888 First Street, NE., Washington, DC 20426.

Dated: October 17, 2016.
Nathaniel J. Davis, Sr.,
Deputy Secretary.

[FR Doc. 2016-25516 Filed 10-20-16; 8:45 am]

BILLING CODE 6717-01-P